DEPARTMENT OF COMMERCE

National Oceanic and Atmospheric Administration

[RTID 0648-XD680]

Fisheries of the Caribbean, Gulf of Mexico, and South Atlantic; Exempted Fishing Permits

AGENCY: National Marine Fisheries Service (NMFS), National Oceanic and Atmospheric Administration (NOAA), Commerce.

ACTION: Notice of receipt of an application for exempted fishing permit; request for comments.

SUMMARY: NMFS announces the receipt of an application for an exempted fishing permit (EFP) from LGL Ecological Research Associates Inc. If granted, the EFP would allow the retention, up to 24 hours, and lethal harvest of a limited number of red drum, king mackerel, and Spanish mackerel harvested by approved participants in the Louisiana commercial menhaden purse seine fishery in Federal waters during the 2024 menhaden season. The project would seek to quantify bycatch and test post-release mortality of these species in the fishery to assess impacts the fishery may have on Federally-managed species in the Gulf of Mexico (Gulf).

DATES: Written comments must be received on or before April 22, 2024.

ADDRESSES: You may submit comments on the application, identified by “NOAA-NMFS-2024-0048”, by any of the following methods:

Electronic Submission: Submit all electronic public comments via the Federal e-Rulemaking Portal. Visit https://www.regulations.gov and type “NOAA-NMFS-2024-0048” in the Search box. Click the “Comment” icon, complete the required fields, and enter or attach your comments.

Mail: Submit written comments to Dan Luers, Southeast Regional Office, NMFS, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of the EFP application may be obtained from the Southeast Regional Office website at https://www.fisheries.noaa.gov/southeast/bycatch/exempted-fishing-permit-quantification-bycatch-composition-and-survival/.

FOR FURTHER INFORMATION CONTACT: Dan Luers, 727-824-5305, Daniel.Luers@noaa.gov.

SUPPLEMENTARY INFORMATION: The EFP is requested under the authority of the Magnuson-Stevens Fishery Conservation and Management Act (16 U.S.C 1801 et seq.), and regulations at 50 CFR 600.745(b) concerning exempted fishing.

Red drum, king mackerel, and Spanish mackerel are Federally-managed species that occur in Gulf waters that are caught as bycatch in the Louisiana commercial menhaden purse seine fishery, which operates in state and Federal waters. The proposed research would quantify bycatch from the Louisiana menhaden purse seine fishery as they occur in purse seine nets, fish excluder grates, dewatering screens, and release chutes, with the goal of quantifying bycatch for each exclusion method within the fishery and evaluate the post-release mortality of red drum, king mackerel, and Spanish mackerel caught as bycatch by the fishery.

Approximately 400 purse seine sets are expected to occur during the 2024 menhaden purse seine season (April 15-November 1, 2024) in water depths less than 60 feet (18 meters). During fishing operations, the applicant would accompany 1 of the 53 state-permitted vessels, which deploys a 1,200 to 1,500 foot (366 to 457 meters) purse seine for a soak time of 20 to 45 minutes and a second vessel pumps the catch (catch-collecting vessel) from the net into the hold. In this project, researchers on board the catch-collecting vessel would record bycatch caught by each exclusion method described in the previous paragraph. Off Louisiana, the commercial harvest of menhaden is restricted to waters seaward of a boundary line described in the states' statutes (Louisiana Title 76) and includes both state and some Federal waters. The majority of fishing activities under this EFP are expected to occur in Louisiana State waters, but fishing operations could occur in Federal waters as the menhaden migrate from inshore estuarine waters to offshore marine waters in October. NMFS estimates that 64 of the 400 sets anticipated for the 2024 menhaden season could occur in Federal waters.

The EFP would allow the applicant to harvest up to 200 individuals each of red drum, king mackerel, and Spanish mackerel during the 2024 menhaden season to determine sex ratios. An additional number of red drum, king mackerel, and Spanish mackerel (up to 400 per species) would be held for 24 hours in tanks with continuous water flow on board the catch-collecting vessel to assess short-term survival and then would be tagged and released. All other bycatch initially retained by the applicant would be returned to the water. Red drum, king mackerel, and Spanish mackerel that die during normal fishing operations, or that die in the survival study, would be preferentially biopsied to minimize mortality attributed to this study. No red drum, king mackerel, and Spanish mackerel landed as part of the project would be sold.

Federal regulations at 50 CFR 622.92(b) prohibit the harvest and possession of red drum in or from the Gulf Federal waters and any red drum caught in the Gulf Federal waters must be released immediately with a minimum of harm. The EFP would allow the applicant to biopsy up to 200 red drum and possess for up to 24 hours an additional 400 red drum during the 2024 menhaden purse seine season (April 15-November 1, 2024).

Federal regulations at 50 CFR 622.375(a)(1)(iv) and 622.375(b)(3) prohibit the harvest of king mackerel and Spanish mackerel by purse seine gear. Additionally, regulations at 50 CFR 622.380(b) prohibit possession of king mackerel less than 24 inches (61 cm), fork length, and 622.380(c) prohibit possession of Spanish mackerel less than 12 inches (30.5 cm), fork length. The EFP would allow the applicant to biopsy up to 200 of each species, including undersized fish, and possess for up to 24 hours an additional 400 each of king mackerel and Spanish mackerel and using purse seine gear during the 2024 menhaden purse seine season.

If granted, the EFP would be effective from April 15, 2024, through December 31, 2024. The applicant and commercial menhaden fishermen and vessels participating in the EFP must comply with all other applicable laws and regulations.

NMFS finds the application warrants further consideration based on a preliminary review. At its January 2024 meeting, the Gulf of Mexico Fishery Management Council reviewed the application and recommended that NMFS issue the EFP. A final decision on issuance of the EFP will depend on NMFS' review of public comments received on the application, consultations with the appropriate fishery management agencies of the affected states, and the U.S. Coast Guard, and a determination that the activities to be taken under the EFP are consistent with all other applicable laws.

Authority: 16 U.S.C 1801 et seq.

Dated: April 2, 2024.
Everett Wayne Baxter,
Acting Director, Office of Sustainable Fisheries, National Marine Fisheries Service.

[FR Doc. 2024-07304 Filed 4-4-24; 8:45 am]

BILLING CODE 3510-22-P